ENVIRONMENTAL PROTECTION AGENCY

[EPA-HQ-OPP-2007-0040; FRL-8112-3]

Pesticides; Guidance for Pesticide Registrants on Disposal Instructions on Non-Antimicrobial Residential/Household Use Pesticide Product Labels

AGENCY: Environmental Protection Agency (EPA).

ACTION: Notice of availability.

SUMMARY: The Agency is announcing the availability of a Pesticide Registration Notice (PR Notice) entitled “Disposal Instructions on Non-Antimicrobial Residential/Household Use Pesticide Product Labels.” PR Notices are issued by the Office of Pesticide Programs (OPP) to inform pesticide registrants and other interested persons about important policies, procedures, and registration related decisions, and serve to provide guidance to pesticide registrants and OPP personnel. This particular PR Notice provides guidance to the registrant concerning the updating and revision of PR Notice 2001-6 to clarify that the use of a toll free number in the disposal instructions on non-antimicrobial residential/household use pesticide product labels is optional. If registrants choose to change or remove a toll free number from the disposal instructions on their label, this notice provides guidance on making such changes.

FOR FURTHER INFORMATION CONTACT: Jim Downing, Biopesticides and Pollution Prevention Division, (7511P), Office of Pesticide Programs, Environmental Protection Agency, 1200 Pennsylvania Ave., NW., Washington, DC 20460-0001; telephone number: (703) 308-9071; fax number: (703) 308-7026; e-mail address: downing.jim@epa.gov.

SUPPLEMENTARY INFORMATION:

I. General Information

A. Does this Action Apply to Me?

This action is directed to the public in general; however this action may be of particular interest to those persons who are responsible for registration and reregistration of pesticide products. Since other entities may also be interested, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2007-0040. Publicly available docket materials are available either in the electronic docket at http://www.regulations.gov, or, in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Guidance Does this PR Notice Provide?

This PR Notice provides guidance to the registrant updating and revising PR Notice 2001-6 to clarify that the use of a toll free number in the disposal instructions on non-antimicrobial residential/household use pesticide product labels is optional. If registrants choose to change or remove a toll free number from the disposal instructions on their label, this notice provides guidance on making such changes. This notice supersedes PR Notice 2001-6 in its entirety and PR Notices 83-3 and 84-1 in part

.

This notice provides guidance for the development of disposal instructions for non-antimicrobial, residential/household use pesticide product labels. EPA is providing instructions that direct consumers to call their local authorities for specific disposal instructions in order to provide state and local governments greater latitude in carrying out their responsibilities for product disposal and waste management programs.

This notice is directed to registrants of non-antimicrobial, residential/household use products. Registrants using the revised disposal statements provided in this notice may add the disposal statements to their labels by notification or they may make the changes with non-notification, according to PR Notice 98-10. The Agency expects that registrants of existing products will begin to revise their labels accordingly. All affected product labels were expected to have disposal statements according to issued guidance by October 1, 2003. The statements in this notice are not intended for non-residential/non-household use (e.g., agricultural, commercial, or industrial use) pesticide products where users generally have access to established recycling and/or disposal procedures and programs.

III. Do PR Notices Contain Binding Requirements?

The PR Notice discussed in this notice is intended to provide guidance to EPA personnel and decision makers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

List of Subjects

Environmental protection, Administrative practice and procedure, Agricultural commodities, Pesticides and pests.

Dated: March 2, 2007.
James Jones,
Director, Office of Pesticide Programs.

[FR Doc. 07-1291 Filed 3-20-07; 8:45 am]

BILLING CODE 6560-50-S